DEPARTMENT OF COMMERCE

National Oceanic and Atmospheric Administration

Proposed Information Collection; Comment Request; Socioeconomic Impacts of Proposed Boundary Expansion and Research Only Area Alternatives in the Flower Gardens Bank National Marine Sanctuary

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 23, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be Dr. Vernon Leeworthy, 301-713-7261 or Bob.Leeworthy@noaa.gov.

SUPPLEMENTARY INFORMATION:

I. Abstract

The purpose of this information collection is to obtain socioeconomic information in the Flower Gardens Bank National Marine Sanctuary (FGBNMS). The FGBNMS is in the process of revising its management plan, and two issues have emerged as top priorities: (1) boundary expansion and (2) research only area. Information is required to assess the potential socioeconomic impacts of boundary expansion and research only area alternatives. The study involves surveys of seven different user group/stakeholders: commercial fishing operations, recreational charter/party boat operations, private households that participate in recreational fishing, dive charter/guide operations, private households that participate in SCUBA diving, and oil and gas operations.

Information will be collected on spatial use for all user groups to assess the extent of potential displacement of activity from either a proposed boundary expansion alternative or a research only area alternative.

For business operations, costs and earnings will be obtained to assess the impact of regulatory alternatives on business profits. Socioeconomic/demographic information on owners/operators and number of employees and family members of owners/operators will also be obtained.

For members of households that participate in recreational fishing or recreational SCUBA diving, information will be collected on socioeconomic/demographic profiles, spending associated with their activity, economic user value associated with their activity, and knowledge, attitudes and perceptions about FGBNMS management strategies and regulations.

II. Method of Collection

Interviews will generally be used. For business operations, a team will go to the business establishment and work with the business owner/staff to compile the information requested. Questionnaire forms and maps will be used to guide the information collection. For members of private households engaging in recreational activities, combinations of face-to-face, mail and Internet surveys will be conducted.

III. Data

OMB Control Number: None.

Form Number: None.

Type of Review: Regular submission.

Affected Public: Individuals or households; business or other for-profit organizations.

Estimated Number of Respondents: 360.

Estimated Time per Response: Commercial fishing operations, 2 hours; recreational fishing charter/party boat operations, 2 hours; members of private households participating in recreational activities, 30 minutes; dive charter/guide operations, 2 hours; and oil and gas operations, 2 hours.

Estimated Total Annual Burden Hours: 270.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 18, 2008.
Gwellnar Banks,
Management Analyst, Office of the Chief Information Officer.

[FR Doc. E8-30472 Filed 12-22-08; 8:45 am]

BILLING CODE 3510-NK-P